FEDERAL COMMUNICATIONS COMMISSION

47 CFR Part 73

[DA 02-246; MM Docket No. 01-303; RM-10306]

Radio Broadcasting Services; Birch Tree, Missouri

AGENCY: Federal Communications Commission.

ACTION: Proposed rule; withdrawal.

SUMMARY: This document dismisses a petition for rule making filed by Charles Crawford requesting the allotment of Channel 241A at Birch Tree, Missouri. See 66 FR 54972, October 31, 2001. Neither Charles Crawford nor any other party filed comments supporting an allotment at Birch Tree. As it is the Commission's policy to refrain from making an allotment absent supporting comments, we will dismiss the proposal for Birch Tree.

FOR FURTHER INFORMATION CONTACT: Kathleen Scheuerle, Mass Media Bureau (202) 418-2180.

SUPPLEMENTARY INFORMATION: This is a summary of the Commission's Report and Order, MM Docket No. 01-303, adopted January 23, 2002, and released February 1, 2002. The full text of this Commission decision is available for inspection and copying during regular business hours at the FCC Reference Information Center, Portals II, 445 Twelfth Street, SW., Room CY-B402, Washington, DC 20554. This document may also be purchased from the Commission's duplicating contractor, Qualex International, Portals II, 445 12th Street, SW., Room CY-B402, Washington, DC 20554, telephone 202-863-2893, facsimile 202-863-2898, or via e-mail qualexint@aol.com.

Federal Communications Commission.
John A. Karousos,
Chief, Allocations Branch, Policy and Rules Division, Mass Media Bureau.

[FR Doc. 02-4004 Filed 2-15-02; 8:45 am]

BILLING CODE 6712-01-P